DEPARTMENT OF COMMERCE

National Oceanic and Atmospheric Administration

Solicitation for Members of the NOAA Science Advisory Board

AGENCY: National Oceanic and Atmospheric Administration (NOAA), Office of Oceanic and Atmospheric Research, Commerce.

ACTION: Notice of solicitation for members of the NOAA Science Advisory Board.

SUMMARY: NOAA is soliciting nominations for members of the NOAA Science Advisory Board (SAB). The SAB is the only Federal Advisory Committee with the responsibility to advise the Under Secretary of Commerce for Oceans and Atmosphere and NOAA Administrator on long- and short-range strategies for research, education, and application of science to resource management and environmental assessment and prediction. The SAB consists of 15 members reflecting the full breadth of NOAA's areas of responsibility and assists NOAA in maintaining a complete and accurate understanding of scientific issues critical to the agency's missions.

Points of View: The Board will consist of approximately fifteen members including a Chair, designated by the Under Secretary in accordance with FACA requirements.

Members will be appointed for three-year terms, renewable once, and serve at the discretion of the Under Secretary. If a member resigns before the end of his or her first term, the vacancy appointment shall be for the remainder of the unexpired term, and shall be renewable twice if the unexpired term is less than one year.

Members will be appointed as special government employees (SGEs) and will be subject to the ethical standards applicable to SGEs. Members are reimbursed for actual and reasonable travel and per diem expenses incurred in performing such duties but will not be reimbursed for their time.

As a Federal Advisory Committee the Board's membership is required to be balanced in terms of viewpoints represented and the functions to be performed as well as the interests of geographic regions of the country and the diverse sectors of U.S. society.

The SAB meets in person three times each year, exclusive of teleconferences or subcommittee, task force, and working group meetings. Board members must be willing to serve as liaisons to SAB working groups and/or participate in periodic reviews of the NOAA Cooperative Institutes and overarching reviews of NOAA's research enterprise.

Nominations

Nominations may be made by individuals themselves or by a third party. Nominations by a third party should provide: (1) The nominee's full name, title, institutional affiliation, and contact information; (2) the nominee's area(s) of expertise; and (3) a short description of his/her qualifications relative to the kinds of advice being solicited. Inclusion of a (maximum length four [4] pages) resume or curriculum vitae is recommended, but not required.

Applications

An application is required to be considered for Board membership, whether nominated by a third party or self-nominated. To apply, submit a current resume (maximum length four [4] pages) as indicated in the ADDRESSES section that includes: (1) The applicant's full name, title, institutional affiliation, and contact information (mailing address, email, telephones, fax); (2) the nominee's area(s) of expertise; and (3) a short description of his/her qualifications relative to the kinds of advice being solicited. A cover letter stating their interest in serving on the Board and highlighting specific areas of expertise relevant to the purpose of the Board is required.

DATES: Nominations should be sent to the address specified and must be received by November 29, 2012.

ADDRESSES: Nominations and applications should be submitted electronically to noaa.sab.newmembers@noaa.gov.

FOR FURTHER INFORMATION CONTACT: Dr. Cynthia Decker, Executive Director, Science Advisory Board, NOAA, Rm. 11230, 1315 East-West Highway, Silver Spring, Maryland 20910. (Phone: 301-734-1156, Fax: 301-713-1459, Email: Cynthia.Decker@noaa.gov); or visit the NOAA SAB Web site at http://www.sab.noaa.gov.

SUPPLEMENTARY INFORMATION: Individuals with expertise are sought in the specific areas of satellites and ground systems, high-performance computing and data systems, operational oceanography and/or meteorology, social sciences, and NOAA-relevant science and technology as applied in the Great Lakes region. Individuals with expertise in other areas relevant to NOAA goals and objectives are also welcome.

SAB activities and advice provide necessary input to ensure that NOAA science programs are of the highest quality and provide optimal support to NOAA's Mission Goals:

• Climate Adaptation and Mitigation.

• Weather-Ready Nation.

• Healthy Oceans.

• Resilient Coastal Communities and Economies.

Dated: October 23, 2012.
Jason Donaldson,
Chief Financial Officer/Chief Administrative Officer, Office of Oceanic and Atmospheric Research, National Oceanic and Atmospheric Administration.

[FR Doc. 2012-26511 Filed 10-29-12; 8:45 am]

BILLING CODE 3510-KD-P